DEPARTMENT OF THE INTERIOR

Office of the Secretary

Invasive Species Advisory Committee

AGENCY: Office of the Secretary, Interior.

ACTION: Notice of public meetings; correction.

SUMMARY: The Department of the Interior published a document in the Federal Register of February 11, 2013, concerning a notice of public meetings of the Invasive Species Advisory Committee. The document contained incorrect dates. This document corrects those errors.

DATES: ISAC New Member Orientation (CLOSED): Wednesday, March 6, 2013; 9 a.m. to 1:45 p.m. Meeting of the Invasive Species Advisory Committee (OPEN): Thursday, March 7, 2013 through Friday, March 8, 2013; 8 a.m. to 5 p.m.

ADDRESSES: Sheraton Pentagon City, 900 South Orme Street, Arlington, VA 22204-4520. The general session on Thursday, March 7, 2013 and Friday, March 8, 2013 will be held in the Galaxy Ballroom.

FOR FURTHER INFORMATION CONTACT: Kelsey Brantley, 202-513-7243.

SUPPLEMENTARY INFORMATION:

Correction

In the Federal Register of February 11, 2013, in FR Doc. 2013-03062, make the following corrections:

1. On page 9724, in the second column, correct paragraph 2 in the “Purpose of Meeting” caption to read:

“The full committee meeting on Thursday, March 7, 2013 and Friday, March 8, 2013 is open to the public. An orientation session will be held on Wednesday, March 6, 2013 for the 14 new ISAC members appointed by Secretary Ken Salazar on January 22, 2013. Note: There will be no business conducted during the orientation session, which is closed to the public.”

2. On page 9724, in the second column, the DATES caption is corrected to read as shown in this document's DATES caption.

3. In the Federal Register of February 11, 2013, in FR Doc. 2013-03062, on page 9724, in the second and third columns, the ADDRESSES caption is corrected to read as shown in this document's ADDRESSES caption.

Dated: February 14, 2014.
Lori Williams,
Executive Director, National Invasive Species Council.

[FR Doc. 2013-03916 Filed 2-19-13; 8:45 am]

BILLING CODE 4310-RK-P